DEPARTMENT OF COMMERCE

Foreign-Trade Zones Board

[Docket 24-2007]

Foreign-Trade Zone 26—Atlanta, GA; Request for Manufacturing Authority; Perkins Shibaura Engines LLC (Diesel Engines)

An application has been submitted to the Foreign-Trade Zones Board (the Board) by Georgia Foreign-Trade Zone, Inc., grantee of FTZ 26, pursuant to Section 400.28(a)(2) of the Board's regulations (15 CFR part 400), requesting authority on behalf of Perkins Shibaura Engines LLC (Perkins Shibaura) to manufacture diesel engines under FTZ procedures within FTZ 26. It was formally filed on July 19, 2007.

The Perkins Shibaura facility (150 employees) is located at 325 Green Valley Road within the Green Valley Industrial Park (Site 6) in Griffin, Georgia. Under FTZ procedures, Perkins Shibaura would assemble up to 50,000 compact diesel engines (HTSUS 8408.90; 10-60 horsepower) for the U.S. market and export. Foreign components that would be used in the FTZ assembly activity include: Fuel/water pumps, injectors, crankshafts, camshafts, flywheels, pulleys, filters, motors, glowplugs, seals and o-rings, bearings and housings, tubes/pipes/hoses of rubber, belts, flanges, spring/lock washers, fasteners, fittings, cylinder heads, pumps, actuator motors, compressors, cooling fans, holders, air filters, gears, gearboxes, speed changers, torque converters, ball/roller screws, generators, ignition parts, electrical switches and connectors, process control instruments, paints, gaskets, sealants, stoppers/lids, labels, decals, articles of graphite or carbon, adaptors, tubes, pipes, plugs, heat exchangers, brake rotors, governors, brackets, solenoids and actuators, electrical converters/transformers/inductors, printed circuit boards, sensors, senders, meters and gauges, instruments; and signaling equipment (duty rates: free—9.0%).

FTZ procedures would exempt Perkins Shibaura from Customs duty payments on the foreign components used in export production. On shipments to the U.S. market, Perkins Shibaura could elect the finished engine duty rate (free) for the foreign components used in production when the finished engines are entered for U.S. consumption from the zone. The application indicates that the company would also realize duty deferral and certain logistical/supply chain savings.

Public comment is invited from interested parties. Submissions (original and 3 copies) shall be addressed to the Board's Executive Secretary at the following address: Office of the Executive Secretary, Room 2111, U.S. Department of Commerce, 1401 Constitution Avenue, NW.,Washington, DC 20230-0002. The closing period for receipt of comments is August 24, 2007.

A copy of the application will be available for public inspection at the Office of the Foreign-Trade Zones Board's Executive Secretary at the address listed above. For further information, contact Pierre Duy, examiner, at: pierre_duy@ita.doc.gov, or (202) 482-1378.

Dated: July 19, 2007.
Andrew McGilvray,
Executive Secretary.

[FR Doc. E7-14369 Filed 7-24-07; 8:45 am]

BILLING CODE 3510-DS-P